DEPARTMENT OF JUSTICE

[OMB Number 1125-0001]

Agency Information Collection Activities; Proposed Collection eComments Requested; Revision and Extension of a Previously Approved Collection;Title—Application for Cancellation of Removal (Form EOIR-42A) for Certain Permanent Residents; and Application for Cancellation of Removal and Adjustment of Status (Form EOIR-42B) for Certain Nonpermanent Residents

AGENCY: Executive Office for Immigration Review, Department of Justice.

ACTION: 30-Day notice.

SUMMARY: The Executive Office for Immigration Review (EOIR), Department of Justice (DOJ), will be submitting the following information collection request (ICR) to the Office of Management and Budget (OMB) for review and approval in accordance with the Paperwork Reduction Act of 1995.

DATES: Comments are encouraged and will be accepted for 30 days until December 22, 2025.

FOR FURTHER INFORMATION CONTACT: If you have comments especially on the estimated public burden or associated response time, suggestions, or need a copy of the proposed information collection instrument with instructions or additional information, please contact: Justine Fuga, Associate General Counsel, Office of the General Counsel, Executive Office for Immigration Review, 5107 Leesburg Pike, Suite 2600, Falls Church, VA 22041, telephone: (703) 305- 0265, Justine.Fuga@usdoj.gov, eoir.pra.comments@usdoj.gov.

SUPPLEMENTARY INFORMATION: The proposed information collection was previously published in the Federal Register on August 5, 2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0001. This ICR may be viewed at www.reginfo.gov. Follow the instructions to view Department of Justice information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and extension of a previously approved collection.

2. Title of the Form/Collection: Application for Cancellation of Removal for Certain Permanent Residents; and Application for Cancellation of Removal and Adjustment of Status for Certain Nonpermanent Residents.

3. Agency form number, if any, and the applicable component of the Department of Justice sponsoring the collection: The agency form number is EOIR-42A and EOIR-42B, and the sponsoring DOJ component is EOIR.

4. Affected public who will be asked or required to respond, as well as a brief abstract:

Affected Public: Individuals in removal proceedings before EOIR determined to be removable from the United States.

Abstract: An individual who is removable from the United States may, pursuant to section 240A of the Immigration and Nationality Act (Act), request that the Attorney General cancel their removal. To be granted such relief from removal, the applicant must prove that they meet all of the statutory prerequisites for such relief and that they are entitled to a favorable exercise of discretion. There are two application forms available for cancellation of removal: Form EOIR-42A, for Certain Permanent Residents; and Form EOIR-42B, Adjustment of Status for Certain Nonpermanent Residents. This information collection is necessary to determine the statutory eligibility of individuals in removal proceedings who have been determined to be removable from the United States for cancellation of their removal, as well as to provide information relevant to a favorable exercise of discretion pursuant to 8 U.S.C. 1229b(a), INA § 240A(a). EOIR is revising these forms to update references to filing fee information, to include a Privacy Act Notice for each form, to include the expiration date for OMB approval on each form, and to implement minor text formatting changes to improve organization, clarity, and readability.

5. Obligation to Respond: Required to obtain/retain the benefit of cancellation of removal.

6. Total Estimated Number of Respondents: It is estimated that 1,519 respondents will complete the form annually for Cancellation of Removal for Certain Permanent Residents (EOIR-42A) and that 15,757 respondents will complete the form annually for Cancellation of Removal and Adjustment of status for Certain Nonpermanent Residents (EOIR-42B).

7. Estimated Time per Respondent: The estimated time per respondent for both forms is 5 hours and 50 minutes.

8. Frequency: Once a year.

9. Total Estimated Annual Time Burden: 8,856 hours for the EOIR-42A and 91,865 hours for the EOIR-42B.

10. Total Estimated Annual Other Costs Burden: The total estimated annual public cost for the EOIR-42A is $1,683,912 and for the EOIR-42B is $31,640,056.

Total Public Cost
Activity | Practitioner cost | Filing fee | Total annual responses | Total annual public cost
EOIR-42A | $70.08/hr × 5.83 hours per response = $408 per response | $700 per response | 1,519 | $1,683,912
EOIR-42B | $70.08/hr × 5.83 hours per response = $408 per response | $1,600 per response | 15,757 | $31,640,056

Printing and postage costs associated with filing these forms may be avoided because all forms may be submitted electronically. The estimated total public cost for each form is derived by adding the estimated cost to hire a practitioner to assist with preparing the form with the filing fee per form and then multiplying by the total number of annual responses. The estimated practitioner cost is based on the average hourly wage for an attorney as estimated by the Bureau of Labor Statistics.

If additional information is required, contact: Darwin Arceo, Department Clearance Officer, Enterprise Portfolio Management, Justice Management Division, United States Department of Justice, Two Constitution Square, 145 N Street NE, 4W-218, Washington, DC 20530.

Dated: November 19, 2025.
Darwin Arceo,
Department Clearance Officer for PRA, U.S. Department of Justice.

[FR Doc. 2025-20651 Filed 11-20-25; 8:45 am]

BILLING CODE 4410-30-P